Title 3—

The President

Presidential Determination No. 2007-16 of April 11, 2007

Presidential Determination on Waiver and Certification of Statutory Provisions Regarding the Palestine Liberation Organization Office

Memorandum for the Secretary of State

Pursuant to the authority and conditions contained in section 534(d) of the Foreign Operations, Export Financing, and Related Programs Appropriations Act, 2006, Public Law 109-102, as carried forward by the Revised Continuing Appropriations Resolution, 2007, Public Law 110-5, I hereby determine and certify that it is important to the national security interests of the United States to waive the provisions of section 1003 of the Anti-Terrorism Act of 1987, Public Law 100-204.

This waiver shall be effective for a period of 6 months from the date hereof. You are hereby authorized and directed to transmit this determination to the Congress and to publish it in the Federal Register.

THE WHITE HOUSE,

Washington, April 11, 2007.

[FR Doc. 07-2004

Filed 4-19-07; 8:45 am]

Billing code 4710-10-P